FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR, part 515).

Persons knowing of any reason why the following applicants should not receive a license are requested to contact the Office of Transportation Intermediaries, Federal Maritime Commission, Washington, DC 20573.

Non-Vessel-Operating Common Carrier Ocean Transportation Intermediary Applicants

Longyun Worldwide Forwarding Co. Ltd., No. 66, Weixing Xincun, Laogang Town, Nanhui District, Shanghai, China 201302. Officers: Weifen Yuan, President Qualifying Individual), Jun Sun, Director.

Global Alliance Logistics (ATL) Inc., 510 Plaza Drive, Suite 2720, College Park, GA 30349. Officers: Philip Yu, Vice President Qualifying Individual), Kam L. Ng, President.

Non-Vessel-Operating Common Carrier and Ocean Freight Forwarder Transportation Intermediary Applicants

Willmar International, Inc., 975 Navajo Drive—P.O. Box 87, Bluffton, OH 45817. Officer: William T. Martin, President (Qualifying Individual).

Pacific Hong International Corp., dba Charming Shipping Company, 308 La France Avenue, #F, Alhambra, CA 91801. Officers: Honghua Wang, President (Qualifying Individual), Hongyu Zhang, CFO.

Ocean Freight Forwarder—Ocean Transportation Intermediary Applicant

Reaction, Inc., 1549 Taft Court, Seaford, NY 11873. Officers: Ahmet Celikay, President (Qualifying Individual).

Dated: October 8, 2004.
Bryant L. VanBrakle,
Secretary.

[FR Doc. 04-23052 Filed 10-13-04; 8:45 am]

BILLING CODE 6730-01-P